DEPARTMENT OF JUSTICE

Notice of Lodging of Consent Decree Under the Comprehensive Environmental Response, Compensation, and Liability Act (“CERCLA”)

Under the policy set out at 28 CFR 50.7, notice is hereby given that on March 25, 2002, the United States lodged a proposed Consent Decree for the Mine Flooding Operable Unit in Butte, Montana (the “Mine Flooding Consent Decree”) in United States v. Atlantic Richfield Company et al., Civil Action No. 02-35-BU-RFC, with the United States District Court for the District of Montana.

This lawsuit was brought by the United States against five entities—Atlantic Richfield Company; ASARCO; Montana Resources; Montana Resources, Incorporated; AR Corporation; and Dennis Washington (collectively, the “Settling Defendants”)—under Sections 106, 107 and 113(g)(2) of the Comprehensive Environmental Response, Compensation and Liability Act of 1980, as amended (“CERCLA”), 42 U.S.C. 9606, 9607, 9613(g)(2), for: (a) The recovery of costs incurred by EPA in response to releases and threatened releases of hazardous substances at and from the Butte Mine Flooding Operable Unit, including a related removal action at the Travona Shaft/West Camp Operable Unit, which is part of the Butte Mine Flooding Operable Unit (collectively the “Mine Flooding Site”), together with accrued interest; (b) a declaratory judgment regarding liability for Future Response Costs paid at the Mine Flooding Site; and (c) the performance of certain response actions consistent at the Mine Flooding Site consistent with CERCLA's implementing regulations, which are contained in the National Contingency Plan (NCP) at 40 CFR part 300.

Under the terms of the proposed Consent Decree lodged with the Court, the Settling Defendants will, among other things: (a) Implement the cleanup plan selected by the U.S. Environmental Protection Agency (EPA) for the Mine Flooding Site, (b) reimburse EPA for its past costs in responding to the releases of hazardous substances at the Mine Flooding Site, and (c) make a lump sum payment to EPA to cover its anticipated future costs in overseeing and monitoring the cleanup at the Mine Flooding Site.

The Department of Justice will receive comments relating to the proposed Consent Decree for a period of thirty (30) days from the date of this publication. Comments should be addressed to the Office of the Assistant Attorney General, Environment and Natural Resources Division, Department of Justice, P.O. Box 7611, Washington, DC 20044-7611, and refer to United States v. ARCO, DOJ Case Number 90-11-2-430.

The proposed Consent Decree may be examined at the office of the United States Attorney for the District of Montana, 2929 Third Avenue North, Suite 400, Billings, Montana 59101, and at U.S. EPA Region VIII Montana Office, Federal Building, 10 West 15th Street, Suite 3200, Helena, Montana 59624. A copy of the proposed Consent Decree may also be obtained by mailing a request to the Consent Decree Library, U.S. Department of Justice, P.O. Box 7611, Washington, DC 20044-7611, or by faxing a request to Tonia Fleetwood, Department of Justice Consent Decree Library, fax no. (202) 616-6584; phone confirmation no. (202) 514-1547.

In requesting a copy of the Consent Decree, please reference United States v. ARCO, DOJ Case Number 90-11-2-430, and enclose a check in the amount of $30.50 (25 cents per page reproduction cost) payable to the U.S. Treasury.

W. Benjamin Fisherow,
Deputy Chief, Environmental Enforcement Section, Environment and Natural Resources Division.

[FR Doc. 02-8093 Filed 4-3-02; 8:45 am]

BILLING CODE 4410-15-M